DEPARTMENT OF TRANSPORTATION

Federal Aviation Administration

Notice of Intent To Rule on Application To Impose and Use the Revenue From a Passenger Facility Charge (PFC) at Lovell Field Airport, Chattanooga, Tennessee

AGENCY: Federal Aviation Administration (FAA), DOT.

ACTION: Notice of intent to rule on application.

SUMMARY: The FAA proposes to rule and invites public comment on the application to impose and use the revenue from a PFC at Lovell Field Airport under the provisions of the Aviation Safety and Capacity Expansion Act of 1990 (Title IX of the Omnibus Budget Reconciliation Act of 1990) (Public Law 101-508) and Part 158 of the Federal Aviation Regulations (14 CFR Part 158).

DATES: Comments must be received on or before September 18, 2000.

ADDRESSES: Comments on this application may be mailed or delivered in triplicate to the FAA at the following address: Memphis Airports District Office, 3385 Airways Blvd, Suite 302, Memphis, Tennessee 38116-3841.

In addition, one copy of any comments submitted to the FAA must be mailed or delivered to Hugh Davis, president of the Chattanooga Metropolitan Airport Authority at the following address: 1000 Airport Road, Suite 14, Chattanooga, Tennessee 37421.

Air carriers and foreign air carriers may submit copies of written comments previously provided to the Chattanooga Metropolitan Airport Authority under section 158.23 of Part 158.

FOR FURTHER INFORMATION CONTACT: Cager Swauncy, Program Manager, Memphis Airports District Office, 3385 Airways Blvd., Suite 302, Memphis, Tennessee 38116-3841 (901) 544-3495. The application may be reviewed in person at this same location.

SUPPLEMENTARY INFORMATION: The FAA proposes to rule and invites public comment on the application to impose and use the revenue from a PFC at Lovell Field Airport under the provisions of the Aviation Safety and Capacity Expansion Act of 1990 (Title IX of the Omnibus Budget Reconciliation Act of 1990) (Public Law 101-508) and Part 158 of the Federal Aviation Regulations (14 CFR Part 158).

On August 10, 2000, the FAA determined that the application to impose and use the revenue from a PFC submitted by Chattanooga Metropolitan Airport Authority was substantially complete within the requirements of section 158.25 of Part 158. The FAA will approve or disapprove the application, in whole or in part, no later than November 24, 2000.

The following is a brief overview of the application.

PFC Application No.: 00-03-C-00-CHA.

Level of the proposed PFC: $4.50.

Proposed charge effective date: October 1, 2004.

Proposed charge expiration date: January 1, 2015.

Total estimated net PFC revenue: $23,427,223.

Brief description of proposed project(s): Acquisition of Land for current and future Runway Protection Zone and Airport Development, Relocation of Taxiway “A”, Roadway Improvements, Obstruction Removal, Levee Improvements, and Part 150 Land Acquisition.

Class or classes of air carriers which the public agency has requested not be required to collect PFCs: The Authority intends to request that those air carriers operating under Part 135, nonscheduled, whole-plane-charter basis, i.e., Air Taxis/Commercial Operators (“ATCO”) which file form 1800-31, at the Airport to be exempt from collecting the PFC.

Any person may inspect the application in person at the FAA office listed above under FOR FURTHER INFORMATION CONTACT.

In addition, any person may, upon request, inspect the application, notice and other documents germane to the application in person at the Chattanooga Metropolitan Airport Authority.

Issued in Memphis, Tennessee, on August 10, 2000.
LaVerne F. Reid,
Manager, Memphis Airports District Office Southern Region.

[FR Doc. 00-20943 Filed 8-16-00; 8:45 am]

BILLING CODE 4910-13-M